DEPARTMENT OF ENERGY

Federal Energy Regulatory Commission

[Docket No. IC08-566-000; FERC-566]

Commission Information Collection Activities, Proposed Collection; Comment Request; Extension

February 1, 2008.

AGENCY: Federal Energy Regulatory Commission, DOE.

ACTION: Notice.

SUMMARY: In compliance with the requirements of section 3506(c)(2)(a) of the Paperwork Reduction Act of 1995 (Pub. L. No. 104-13), the Federal Energy Regulatory Commission (Commission) is soliciting public comment on the specific aspects of the information collection described below.

DATES: Comments on the collection of information are due April 7, 2008.

ADDRESSES: Copies of sample filings of the proposed information collection can be obtained from the Commission's Documents & Filing Web site (http://www.ferc.gov/docs-filings/elibrary.asp) or by contacting the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC08-566-000.

Documents filed electronically via the Internet must be prepared in the acceptable filing format and in compliance with the Federal Energy Regulatory Commission's submission guidelines. Complete filing instructions and acceptable filing formats are available at (http://www.ferc.gov/help/submission-guide/electronic-media.asp). To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the eLibrary link. For user assistance, contact ferconlinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-566 “Annual Report of a Utility's Twenty Largest Purchasers” (OMB No. 1902-0114) is used by the Commission to implement the statutory provisions of section 305 of the Federal Power Act (FPA), (16 U.S.C. 825d), as amended by Title II, section 211 of the Public Utility Regulatory Policies Act of 1978 (PURPA). FPA section 305—Officials Dealing in Securities; Interlocking Directorates—requires that each public utility annually “publish” a list, pursuant to rules prescribed by the Commission, of the purchasers of the 20 largest annual amounts of electric energy sold by such public utility during any one of three previous calendar years. The required filers, the filing deadline, the specific information to be filed, and the requirement to publicly provide the information are all specifically mandated by the FPA. The Commission is not empowered to amend or waive these statutory requirements. Requirements the Commission has the authority to amend, such as the filing format and method, are found in the Commission's regulations in 18 CFR 46.3.

The FPA requires public utilities to publish and file with the Commission a list of their largest customers and the identification of public utility board members who are also board members of the utility's largest customers.¹ This data on interlocking directorates allows the Commission to inquire into and determine whether public or private interests will be adversely affected by the holding of such positions.

¹ Annual Report of Interlocking Positions, FERC Form 561, OMB No. 1902-0099, collects the interlocking directorate information.

Under the current OMB authorization, the Commission requires the filing of FERC-566 in hardcopy. However, the Commission has directed under RM07-16-000 ² to allow for the voluntary electronic submittal of many required filings, including the FERC-566, which is expected by early 2008. The implementation of eFiling 7.0 would eliminate the current burden of mailing or hand-delivering these filings in hardcopy.

² Filing Via the Internet, RM07-16-000, 72 FR 65659 (2007), FERC Stats. & Regs. ¶ 31,259.

Action: The Commission is requesting a three-year extension of the current expiration date and proposes to make the filing of the FERC-566 more efficient by the end of 2007 under RM07-16-000.

Burden Statement: Public reporting burden for this collection is estimated as:

Number of respondents annually | Number of responses per respondent | Average burden hours per response | Total annual burden hours
(1) | (2) | (3) | (1)×(2)×(3)
242 | 1 | 6 | 1,452

The estimated total cost to respondents is $85,261, [1,452 hours divided by 2,080 hours ³ (times $126,384 ⁴ equals $88,226, rounded off). The cost of filing FERC-566 per respondent is $365 (rounded off) 2.

³ Number of hours an employee works.

⁴ Average annual salary per employee.

The reporting burden includes the total time, effort, or financial resources expended to generate, maintain, retain, disclose, or provide the information including: (1) Reviewing instructions; (2) developing, acquiring, installing, and using technology and systems for the purposes of collecting, validating, verifying, processing, maintaining, disclosing and providing information; (3) adjusting existing ways to comply with any previously applicable filing instructions and requirements; (4) training personnel to respond to a collection of information; (5) searching data sources; (6) completing and reviewing the collection of information; and (7) transmitting or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) The accuracy of the agency's burden estimate of the proposed information collection, including the validity of the methodology and assumptions used to calculate the reporting burden; (2) ways to enhance the quality, utility and clarity of the information to be collected; and (3) the proposal to provide the option to collect FERC-566 electronically during 2008, as indicated under RM07-16-000 000 and any reduction in burden that option might allow filers.

Kimberly D. Bose,
Secretary.

[FR Doc. E8-2407 Filed 2-8-08; 8:45 am]

BILLING CODE 6717-01-P